DEPARTMENT OF THE INTERIOR

National Park Service

[N6943; NPS-WASO-NAGPRA-NPS0042050; PPWOCRADN0-PCU00RP14.R50000]

Notice of Inventory Completion: Tennessee Department of Environment and Conservation Division of Archaeology, Nashville, TN

AGENCY: National Park Service, Interior.

ACTION: Notice.

SUMMARY: In accordance with the Native American Graves Protection and Repatriation Act (NAGPRA), the Tennessee Department of Environment and Conservation, Division of Archaeology (TDEC-DOA) has completed an inventory of human remains and associated funerary objects from site 40MT43, Montgomery County, TN, and has determined that there is a cultural affiliation between the human remains and associated funerary objects and Indian Tribes or Native Hawaiian organizations in this notice.

DATES: Repatriation of the human remains and associated funerary objects in this notice may occur on or after March 25, 2026.

ADDRESSES: Send written requests for repatriation of the human remains and associated funerary objects in this notice to Phillip R. Hodge, Tennessee Department of Environment and Conservation, Division of Archaeology (TDEC-DOA), 1216 Foster Avenue, Cole Building #3, Nashville, TN 37243, email Phil.Hodge@tn.gov.

SUPPLEMENTARY INFORMATION: This notice is published as part of the National Park Service's administrative responsibilities under NAGPRA. The determinations in this notice are the sole responsibility of the TDEC-DOA, and additional information on the determinations in this notice, including the results of consultation, can be found in its inventory or related records. The National Park Service is not responsible for the determinations in this notice.

Abstract of Information Available

Human remains representing, at least, three individuals have been identified. The 1,581 associated funerary objects are described below.

40MT43, Montgomery County, TN

The materials described in this notice were excavated from 40MT43 (Dunbar Cave) by TDEC-DOA staff in 1977 and 1978. Those excavations recovered temporally diagnostic artifacts dating to the Late Paleoindian, Archaic, Woodland, and Mississippian archaeological periods, as well as Euro-American use of the cave. Human remains representing, at least, three individuals were removed during the 1977-1978 excavations. Additional test excavations were conducted by faculty from the University of Tennessee, Knoxville in 2007-2008.

At the request of consulting Tribal Nations, the TDEC-DOA attempted to inventory the 40MT43 collection for the purposes of identifying any as-yet unidentified human remains and/or Cultural Items. Upon inventory, it was apparent that fragmentary human remains were ubiquitous in the collection and, due to the complexity of the cave's stratification and that improper excavation methods were employed, the context and association of the site is compromised and cannot be remedied. It was subsequently determined in consultation to treat the entire collection as a mortuary context. The TDEC-DOA completed the inventory, but only at the box level with the goal of assigning lot numbers to each bag of pre-contact material according to general artifact type. As a result of this process the associated funerary objects included in this notice include 1,581 lots of artifacts consisting of: 733 lots of lithic artifacts; 177 lots of ceramic artifacts; 444 lots of faunal remains; 110 lots of botanical material; 25 lots of carbon samples; and 92 lots of unsorted pre-contact artifacts. There is no known exposure to hazardous substances or treatments.

Cultural Affiliation

Based on the information available and the results of consultation, cultural affiliation is reasonably identified by the geographical location or acquisition history of the human remains and associated funerary objects described in this notice.

Determinations

The TDEC-DOA has determined that:

• The human remains described in this notice represent the physical remains of at least three individuals of Native American ancestry.

• The 1,581 lots of artifacts described in this notice are reasonably believed to have been placed intentionally with or near individual human remains at the time of death or later as part of the death rite or ceremony.

• There is a connection between the human remains and associated funerary objects described in this notice and the Absentee-Shawnee Tribe of Indians of Oklahoma; Cherokee Nation; Eastern Band of Cherokee Indians; Eastern Shawnee Tribe of Oklahoma; Shawnee Tribe; The Muscogee (Creek) Nation; The Osage Nation; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after March 25, 2026. If competing requests for repatriation are received, the TDEC-DOA must determine the most appropriate requestor prior to repatriation. Requests for joint repatriation of the human remains and associated funerary objects are considered a single request and not competing requests. The TDEC-DOA is responsible for sending a copy of this notice to the Indian Tribes and Native Hawaiian organizations identified in this notice.

Authority: Native American Graves Protection and Repatriation Act, 25 U.S.C. 3003, and the implementing regulations, 43 CFR 10.10.

Dated: February 13, 2026.
Melanie O'Brien,
Manager, National NAGPRA Program.

[FR Doc. 2026-03567 Filed 2-20-26; 8:45 am]

BILLING CODE 4312-52-P